DEPARTMENT OF THE INTERIOR

Bureau of Land Management

[LLCAD01000.LL07772200.XZ0000 (MO#4500160196)]

Meetings of the California Desert District Advisory Council

AGENCY: Bureau of Land Management, Interior.

ACTION: Notice of public meetings.

SUMMARY: In accordance with the Federal Land Policy and Management Act of 1976 and the Federal Advisory Committee Act of 1972, the U.S. Department of the Interior, Bureau of Land Management (BLM) California Desert District Advisory Council (Council) will meet as follows.

DATES: The Council will hold virtual meetings on Saturday, May 14, 2022; Saturday, Aug. 27, 2022; and Saturday, Dec. 10, 2022. All meetings start at 9 a.m. and conclude at 4:30 p.m.

ADDRESSES: The meeting links and participation instructions will be made available to the public via a BLM news release, social media, on the Council's web page at https://go.usa.gov/xH8Cw, and through personal contact 2 weeks prior to the meeting.

Written comments for the Council may be sent electronically in advance of the scheduled meetings to Public Affairs Officer Michelle Van Der Linden at mvanderlinden@blm.gov, or in writing to BLM, California Desert District/Public Affairs, 1201 Bird Center Drive, Palm Springs, CA 92262.

FOR FURTHER INFORMATION CONTACT: Michelle Van Der Linden, BLM California Desert District Office, telephone: (760) 833-7172, email: mvanderlinden@blm.gov. Individuals in the United States who are deaf, deafblind, hard of hearing, or have a speech disability may dial 711 (TTY, TDD, or TeleBraille) to access telecommunications relay services for contacting Ms. Van Der Linden. Individuals outside the United States should use the relay services offered within their country to make international calls to the point-of-contact in the United States.

SUPPLEMENTARY INFORMATION: The Council provides recommendations to the Secretary of the Interior concerning the planning and management of the public land resources located within the BLM's California Desert District and offers advice on the implementation of the comprehensive, long-range plan for management, use, development, and protection of the public lands within the California Desert Conservation Area. Agenda topics for the May meeting include presentations on Amargosa Vole Conservation efforts; the King of the Hammers off-road race and related Special Recreation Permit; the Fire and Fuels Program; abandoned mine lands; and overviews from the district and field offices. Agenda topics for the August meeting include presentations on the California Coastal National Monument; BLM landholdings and issues in the South Coast Area; threatened, endangered, and sensitive species relating to the Stephen's Kangaroo Rat; and overviews from the district and field offices. Agenda topics for the December meeting include an update on Castle Mountain Project; discussions on upcoming trail work and visitor impacts within the Amboy Crater National Natural Landmark; discussions on rockhounding within the Marble Mountain Fossil Bed; a presentation on resources within the California Desert District; and overviews from the district and field offices.

All Council meetings are open to the public and public comment periods will be offered at 2:45 p.m. at each meeting. While each of the Saturday meetings is scheduled from 9 a.m. to 4:30 p.m., they may end earlier or later depending on the needs of group members. Therefore, members of the public interested in a specific agenda item or discussion should schedule their arrival accordingly.

Before including your address, phone number, email address, or other personal identifying information in your comment, you should be aware that your entire comment—including your personal identifying information—may be made publicly available at any time. While you can ask us in your comment to withhold your personal identifying information from public review, we cannot guarantee that we will be able to do so.

(Authority: 43 CFR 1784.4-2)

Gregory Miller,
Acting California Desert District Manager.

[FR Doc. 2022-08021 Filed 4-13-22; 8:45 am]

BILLING CODE 4310-40-P